ENVIRONMENTAL PROTECTION AGENCY

40 CFR Part 52

[PA-4127a; FRL-7040-1]

Approval and Promulgation of Air Quality Implementation Plans; Pennsylvania; VOC and NOX RACT Determinations for Eight Individual Sources in the Pittsburgh-Beaver Valley Area; Correction

AGENCY: Environmental Protection Agency (EPA).

ACTION: Direct final rule; correction.

SUMMARY: This document corrects an error in the preamble language of the final rule pertaining to EPA's approval of the VOC and NOX RACT determinations for eight individual sources in the Pittsburgh-Beaver Valley Area, submitted by the Commonwealth of Pennsylvania.

EFFECTIVE DATE: September 27, 2001.

FOR FURTHER INFORMATION CONTACT: Ellen Wentworth (215) 814-2034, or by e-mail at wentworth.ellen@epa.gov.

SUPPLEMENTARY INFORMATION: On August 13, 2001 (66 FR 42418), EPA published a direct final rulemaking action announcing EPA's approval of VOC and NOX RACT determinations for eight individual sources in the Pittsburgh-Beaver Valley Area. In the preamble of this document, EPA inadvertently stated that these eight sources (Consolidated Natural Gas Transmission Corporation-South Oakford Station, Consolidated Natural Gas Transmission Corporation-Tonkin Station, Carnegie Natural Gas Company-Creighton Station, Consolidated Natural Gas Transmission Corporation-Beaver Station, Consolidated Natural Gas Transmission Corporation-Jeannette Station, Consolidated Natural Gas Transmission Corporation-South Bend Station, Consolidated Natural Gas Transmission Corporation-Oakford Station, and Texas Eastern Transmission Corporation-Uniontown Station) were subject to additional post-RACT requirements to reduce NOX found at 25 PA Code Chapters 121, 123 and 145. This action removes the erroneous language from the preamble.

Corrections

In rule document 01-20378, beginning on page 42418 in the issue of Monday, August 13, 2001, make the following corrections:

1. On page 42420, third column, remove the last sentence of the second paragraph.

2. On page 42421, first column, remove the last sentence of the fourth paragraph.

3. On page 42421, second column, remove the last sentence of the third paragraph.

4. On page 42422, first column, remove the last sentence of the second paragraph.

5. On page 42422, second column, remove the last sentence of the second paragraph.

6. On page 42423, first column, remove the last sentence of the second paragraph.

7. On page 42423, third column, remove the last sentence of the second paragraph.

8. On page 42424, second column, remove the last sentence of the first paragraph.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Administrative Requirements

Under Executive Order 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the Supplementary Information section above, it is not subject to the regulatory flexibility provisions of the Regulatory Flexibility Act (5 U.S.C 601 et seq), or to sections 202 and 205 of the Unfunded Mandates Reform Act of 1995 (UMRA) (Public Law 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant. This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.).

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of September 27, 2001. EPA will submit a report containing this rule and other required information to the U.S. Senate, the U.S. House of Representatives, and the Comptroller General of the United States prior to publication of the rule in the Federal Register. This correction to rule document 01-20378 for Pennsylvania is not a “major rule” as defined by 5 U.S.C. 804(2).

Dated: August 14, 2001.
Thomas C. Voltaggio,
Acting Regional Administrator, Region III.

[FR Doc. 01-21034 Filed 8-20-01; 8:45 am]

BILLING CODE 6560-50-P